DEPARTMENT OF LABOR

Employment and Training Administration

[TA-W-71,705]

ArcelorMittal, Including Workers Whose Unemployment Insurance (UI) Wages Are Reported Through Mittal Steel USA, Inc., Including On-Site Leased Workers From Adecco, ESW, Inc., Guardsmark, Hudson Global Resources, Multi Serv, and Quaker Chemical, Hennepin, IL; Amended Certification Regarding Eligibility To Apply for Worker Adjustment Assistance

In accordance with Section 223 of the Trade Act of 1974, as amended (“Act”), 19 U.S.C. 2273, the Department of Labor issued a Certification of Eligibility to Apply for Worker Adjustment Assistance on March 26, 2010, applicable to workers of ArcelorMittal, including on-site leased workers from Adecco, ESW, Inc., Guardsmark, Hudson Global Resources, Hennepin, Illinois. The notice was published in the Federal Register on April 23, 2010 (75 FR 21355). The notice was amended on April 27, 2010 and May 17, 2010 to include on-site leased workers from Multi Serv and Quaker Chemical. The notices were published in the Federal Register on May 12, 2010 (75 FR 26793) and May 28, 2010 (75 FR 30065-30066), respectively.

At the request of the State, the Department reviewed the certification for workers of the subject firm. The workers are engaged in activities in production of hot and cold rolled steel.

New information shows that some workers separated from employment at the Hennepin, Illinois location of ArcelorMittal had their wages reported through a separated unemployment insurance (UI) tax account under the name Mittal Steel USA, Inc.

Based on these findings, the Department is amending this certification to include workers whose unemployment insurance (UI) wages are reported through Mittal Steel USA, Inc.

The amended notice applicable to TA-W-71,705 is hereby issued as follows:

All workers of ArcelorMittal, including workers whose unemployment insurance (UI) wages are reported through Mittal Steel USA, Inc., including on-site leased workers from Adecco, ESW, Inc., Guardsmark, Hudson Global Resources, Multi Serv, and Quaker Chemical, Hennepin, Illinois, who became totally or partially separated from employment on or after July 6, 2008, through March 26, 2012, and all workers in the group threatened with total or partial separation from employment on the date of certification through two years from the date of certification, are eligible to apply for adjustment assistance under Chapter 2 of Title II of the Trade Act of 1974, as amended.

Signed at Washington, DC this 19th day of January 2012.
Del Min Amy Chen,
Certifying Officer, Office of Trade Adjustment Assistance.

[FR Doc. 2012-1781 Filed 1-26-12; 8:45 am]

BILLING CODE 4510-FN-P